DEPARTMENT OF LABOR

Employment and Training Administration

[TA-W-40,841 and TA-W-40,841A]

FCI USA, Incorporated, Emigsville, Pennsylvania; Willow Springs Distribution Center, York, Pennsylvania; Amended Certification Regarding Eligibility To Apply for Worker Adjustment Assistance

In accordance with section 223 of the Trade Act of 1974 (19 U.S.C. 2273) the Department of Labor issued a Notice of Certification Regarding Eligibility to Apply for Worker Adjustment Assistance on February 25, 2002, applicable to workers of FCI USA, Incorporated, Emigsville, Pennsylvania. The notice was published in the Federal Register on March 20, 2002 (67 FR 13011).

At the request of the company, the Department reviewed the certification for workers of the subject firm. The workers are engaged in the production of electrical connectors.

New information provided by the company shows that worker separations will occur at the Willow Springs Distribution Center, of FCI USA, Incorporated in York, Pennsylvania. The York, Pennsylvania location provides warehousing and distribution services for the Emigsville, Pennsylvania production facility of FCI USA, Incorporated.

Accordingly, the Department is amending the certification to cover the workers of the Willow Springs Distribution Center, York, Pennsylvania.

The intent of the Department's certification is to include all workers of FCI USA, Incorporated who were adversely affected by increased imports.

The amended notice applicable to TA-W-40,841 is hereby issued as follows:

All workers of FCI USA, Incorporated, Emigsville, Pennsylvania (TA-W-40,841) and Willow Springs Distribution Center, York, Pennsylvania (TA-W-40,841A), who became totally or partially separated from employment on or after January 7, 2001, through February 25, 2004, are eligible to apply for adjustment assistance under Section 223 of the Trade Act of 1974.

Signed at Washington, DC, this 8th day of May 2003.
Linda G. Poole,
Certification Officer, Division of Trade Adjustment Assistance.

[FR Doc. 03-15865 Filed 6-23-03; 8:45 am]

BILLING CODE 4510-30-P